DEPARTMENT OF HOMELAND SECURITY

Bureau of Customs and Border Protection

19 CFR Part 12

[CBP Decision 03-28]

RIN 1515-AD34

Import Restrictions Imposed on Archaeological Materials From Cambodia

Correction

In rule document 03-24085 beginning on page 55000 in the issue of Monday, September 22, 2003, make the following correction:

§12.104g [Corrected]

On page 55004, in §12.104g(a), in the table, under the heading “ T.D. No.”, “CBP Dec. 03-BC28” should read “CBP Dec. 03-28”.

[FR Doc. C3-24085 Filed 10-8-03; 8:45 am]

BILLING CODE 1505-01-D